INTERNATIONAL TRADE COMMISSION

[Investigation No. 731-TA-718 (Review)]

Glycine From China

Determination

On the basis of the record ¹ developed in the subject five-year review, the United States International Trade Commission determines, pursuant to section 751(c) of the Tariff Act of 1930 (19 U.S.C. 1675(c)), that revocation of the antidumping duty order on glycine from China would be likely to lead to continuation or recurrence of material injury to an industry in the United States within a reasonably foreseeable time.

¹ The record is defined in § 207.2(f) of the Commission's Rules of Practice and Procedure (19 CFR 207.2(f)).

Background

The Commission instituted this review on February 3, 2000 (65 FR 5371, February 3, 2000) and determined on May 5, 2000 that it would conduct an expedited review (65 FR 31145, May 16, 2000). The Commission transmitted its determination in this review to the Secretary of Commerce on June 30, 2000. The views of the Commission are contained in USITC Publication 3315 (June 2000), entitled Glycine From China: Investigation No. 731-TA-718 (Review).

Issued: July 3, 2000.
By order of the Commission.
Donna R. Koehnke,
Secretary.

[FR Doc. 00-17627 Filed 7-11-00; 8:45 am]

BILLING CODE 7020-02-P